DEPARTMENT OF AGRICULTURE

Animal and Plant Health Inspection Service

7 CFR Part 319

[Docket No. APHIS-2014-0092]

RIN 0579-AE17

Importation of Lemons From Northwest Argentina

AGENCY: Animal and Plant Health Inspection Service, USDA.

ACTION: Proposed rule.

SUMMARY: We are proposing to amend the fruits and vegetables regulations to allow the importation of lemons from northwest Argentina into the continental United States. As a condition of entry, lemons from northwest Argentina would have to be produced in accordance with a systems approach that would include requirements for importation in commercial consignments; registration and monitoring of places of production and packinghouses; pest-free places of production; grove sanitation, monitoring, and pest control practices; treatment with a surface disinfectant; lot identification; and inspection for quarantine pests by the Argentine national plant protection organization. Additionally, lemons from northwest Argentina would have to be harvested green and within a certain time period, or treated for Medfly in accordance with an approved treatment schedule. Lemons from northwest Argentina would also be required to be accompanied by a phytosanitary certificate with an additional declaration stating that the lemons have been inspected and found to be free of quarantine pests and were produced in accordance with the proposed requirements. This action would allow for the importation of lemons from northwest Argentina into the United States while continuing to provide protection against the introduction of quarantine pests.

DATES: We will consider all comments that we receive on or before July 11, 2016.

ADDRESSES: You may submit comments by either of the following methods:

• Federal eRulemaking Portal: Go to http://www.regulations.gov/#!docketDetail;D=APHIS-2014-0092.

• Postal Mail/Commercial Delivery: Send your comments to Docket No. APHIS-2014-0092, Regulatory Analysis and Development, PPD, APHIS, Station 3A-03.8, 4700 River Road Unit 118, Riverdale, MD 20737-1238.

Supporting documents and any comments we receive on this docket may be viewed at http://www.regulations.gov/#!docketDetail;D=APHIS-2014-0092 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Juan A. (Tony) Román, Senior Regulatory Policy Specialist, PPQ, APHIS, 4700 River Road Unit 133, Riverdale, MD 20737-1236; (301) 851-2242.

SUPPLEMENTARY INFORMATION:

Background

The regulations in “Subpart-Fruits and Vegetables” (7 CFR 319.56-1 through 319.56-75, referred to below as the regulations) prohibit or restrict the importation of fruits and vegetables into the United States from certain parts of the world to prevent the introduction and dissemination of plant pests within the United States.

The national plant protection organization (NPPO) of Argentina has requested that the Animal and Plant Health Inspection Service (APHIS) amend the regulations to allow lemons (Citrus limon L.) from the northwest region of Argentina (the Provinces of Catamarca, Jujuy, Salta, and Tucumán) to be imported into the continental United States. Northwest Argentina is the main lemon-producing region in Argentina, and different pests occur there than those that occur in other citrus-producing areas in Argentina.

In evaluating Argentina's request, we prepared a pest risk assessment (PRA) and risk management document (RMD). Copies of the PRA and the RMD may be obtained from the person listed under FOR FURTHER INFORMATION CONTACT, viewed in the reading room listed above under ADDRESSES, or viewed on the Regulations.gov Web site (see ADDRESSES above for instructions for accessing Regulations.gov).

The PRA, titled “Risk Assessment for the Importation of Fresh Lemon (Citrus limon (L.) Burm. f.) Fruit from Northwest Argentina into the Continental United States” analyzes the potential pest risk associated with the importation of fresh lemons into the continental United States from northwest Argentina.

A quarantine pest is defined in § 319.56-2 of the regulations as a pest of potential economic significance to the area endangered thereby and not yet present there, or present but not widely distributed and being officially controlled. The PRA identifies nine pests of quarantine significance present in Argentina that could follow the pathway for lemons from northwest Argentina to the continental United States. They are:

• Brevipalpus californicus (Banks), the citrus flat mite; B. obovatus Donnadieu, the scarlet tea mite; and B. phoenicis (Geijskes), the false spider mite. These mites (referred to in this document as the Brevipalpus spp. mites) are potential vectors of citrus leprosis virus (CiLV), a quarantine pest present in Argentina;

• B. chilensis Baker, the Chilean false red mite;

• Ceratitis capitata (Wiedemann), the Mediterranean fruit fly (Medfly);

• Cryptoblabes gnidiella (Milliére), the honeydew moth;

• Elsinoë australis Bitanc. & Jenkins 1936, the causal agent of sweet orange scab disease (SOS);

• Gymnandrosoma aurantianum (Lima), the citrus borer; and

• Xanthomonas citri subsp. citri (ex Hasse) Gabriel et al. 1989, the causal agent of citrus canker disease (Xcc).

The PRA derives plant pest risk potentials for these pests by estimating the likelihood of introduction of each pest into the continental United States through the importation of lemons from northwest Argentina. The PRA considers four of the pests to have a high pest risk potential (B. chilensis, C. capitata, C. gnidiella, and G. aurantianum), and five to have a medium risk potential (the Brevipalpus spp. mites, E. australis, and Xcc).

Based on the findings of the PRA, APHIS has determined that measures beyond standard port-of-entry inspection are necessary in order to mitigate the risk associated with the importation of fresh lemons from northwest Argentina into the continental United States. These measures are listed in the RMD and are used as the basis for the requirements of this proposed rule.

Therefore, we are proposing to amend the regulations to allow the importation of commercial consignments of fresh lemons from northwest Argentina into the continental United States, subject to a systems approach. Requirements of the systems approach, which would be added to the regulations as a new § 319.56-76, are discussed in the following sections.

Proposed Systems Approach

General Requirements

Proposed paragraph (a) of § 319.56-76 would set out general requirements for fresh lemons from northwest Argentina destined for export to the continental United States.

Proposed paragraph (a)(1) of § 319.56-76 would require the NPPO of Argentina to provide an operational workplan to APHIS that details the systems approach activities that the NPPO of Argentina and places of production and packinghouses registered with the NPPO of Argentina would, subject to APHIS approval of the workplan, implement to meet the proposed requirements. An operational workplan is an arrangement between APHIS' Plant Protection and Quarantine program and officials of the NPPO of a foreign government that specifies in detail the phytosanitary measures that will comply with U.S. regulations governing the import or export of a specific commodity. Operational workplans apply only to the signatories and establish detailed procedures and guidance for the day-to-day operations of specific import/export programs. Operational workplans also establish how specific phytosanitary issues are dealt with in the exporting country and make clear who is responsible for dealing with those issues. Operational workplans require APHIS approval.

If the operational workplan is approved, APHIS would be directly involved with the NPPO of Argentina in monitoring and auditing the systems approach implementation. Such monitoring could involve site visits by APHIS personnel.

Proposed paragraph (a)(2) of § 319.56-76 would require the lemons considered for export to the continental United States to be grown by places of production that are registered with the NPPO of Argentina and that have been determined to be free from B. chilensis in accordance with the proposed regulations. We discuss the proposed protocol for considering a production site free from B. chilensis later in this document.

Proposed paragraph (a)(3) of § 319.56-76 would require the lemons to be packed for export to the continental United States in pest-exclusionary packinghouses that are registered with the NPPO of Argentina.

Registration of places of production and packinghouses with the NPPO of Argentina would ensure that the NPPO exercises oversight of these locations and that the places of production and packinghouses continuously follow the provisions of the export program. It would also facilitate traceback in the event that lemons from Argentina are determined to be infested with quarantine pests.

Proposed paragraph (a)(4) of § 319.56-76 would require the NPPO of Argentina to maintain all forms and documents pertaining to registered places of production and packinghouses for at least 1 year and, as requested, provide them to APHIS for review. Such forms and documents would include (but would not be limited to) records regarding fruit fly trapping in registered places of production and records regarding pest detections in registered places of production and registered packinghouses. Based on APHIS' review of the records, we may monitor places of production and packinghouses, as we deem warranted.

Proposed paragraph (a)(5) of § 319.56-76 would require lemons from Argentina to be imported into the continental United States in commercial consignments only. Noncommercial shipments are more prone to infestations because the commodity is often ripe to overripe, could be of a variety with unknown susceptibility to pests, and is often grown with little or no pest control. Commercial consignments, as defined in § 319.56-2 of the regulations, are consignments that an inspector identifies as having been imported for sale and distribution. Such identification is based on a variety of indicators, including, but not limited to: Quantity of produce, type of packaging, identification of place of production or packinghouse on the packaging, and documents consigning the fruits or vegetables to a wholesaler or retailer. For purposes of the proposed regulations, in order for a consignment to be considered a commercial consignment, fruit in the consignment would have to be practically free of leaves, twigs, and other plant parts, except for stems less than 1 inch long and attached to the fruit. We currently require most other fruits and vegetables imported into the United States from foreign countries to be imported in commercial consignments as a mitigation against quarantine pests of those commodities.

Proposed paragraph (a)(6) of § 319.56-76 would require the identity of each lemon from Argentina destined for export to the continental United States to be maintained throughout the export process, from the place of production to the arrival at the port of entry in the continental United States. The operational workplan would have to authorize the means of identification used that allows the lot to be traced back to its place of production. This requirement would facilitate traceback in the event that quarantine pests are discovered in a lot of lemons destined for export to the United States. This, in turn, would help ensure that timely remedial measures are taken to address the plant pest risk at the place of production and preclude the further export of infested fruit from that place of production.

Proposed paragraph (a)(7) of § 319.56-76 would require lemons from Argentina to be harvested green and within the time period of April 1 and August 31. If the lemons are harvested yellow or harvested outside of that time period, they would have to be treated for Medfly in accordance with 7 CFR part 305 and the operational workplan. As documented in the RMD, lemons are a poor host of Medfly, and research has shown that harvesting them green during that time period, when Medfly populations are low in Argentina, is an effective mitigation against Medfly.

Within part 305, § 305.2 provides that approved treatment schedules for Medfly and other quarantine pests are set forth in the Plant Protection and Quarantine Treatment Manual, found online at http://www.aphis.usda.gov/import_export/plants/manuals/ports/downloads/treatment.pdf. The manual currently specifies that cold treatment according to schedule T107-a is effective in neutralizing Medfly on citrus. If lemons from Argentina are harvested yellow, or outside of the prescribed time period, they would have to be treated according to this approved schedule.

Proposed paragraph (a)(8) of § 319.56-76 would provide that lots of lemons destined for export to the continental United States must be safeguarded during movement from registered places of production to registered packinghouses as specified by the operational workplan. Such safeguarding could include the use of pest-proof screens or tarpaulins to cover the lots during transit, or other similar measures approved by APHIS and the NPPO of Argentina.

Proposed paragraph (a)(9) of § 319.56-76 would require each consignment of lemons imported from Argentina into the continental United States to be accompanied by a phytosanitary certificate issued by the NPPO of Argentina with an additional declaration stating that the requirements in the proposed regulations have been met and consignments have been inspected and found free of Brevipalpus spp. mites, B. chilensis, C. capitata, C. gnidiella, and G. aurantianum.

Place of Production Requirements

The proposed systems approach would require places of production to meet certain requirements and take certain measures to prevent the introduction of quarantine pests to lemons destined for export to the continental United States. Proposed paragraph (b) of § 319.56-76 would contain these requirements and measures.

Proposed paragraph (b)(1) of § 319.56-76 would require that, prior to each harvest season, registered places of production of lemons destined for export to the continental United States must be determined by APHIS and the NPPO of Argentina to be free from B. chilensis based on biometric sampling conducted in accordance with the operational workplan. If a single B. chilensis mite is discovered as a result of such sampling, the place of production would not be considered free from B. chilensis for that harvest season. Each place of production would have only one opportunity per harvest season to be considered free of B. chilensis, and certification of B. chilensis freedom would only last one harvest season.

Currently, APHIS authorizes the importation of several commodities from Chile, including kiwi, clementines, mandarins, and tangerines, subject to confirmation, using a similar sampling method, that places of production for those commodities have a low prevalence for B. chilensis. The biometric sampling used to establish freedom from B. chilensis would be modeled on the sampling protocols currently used in Chile to establish places of production of low pest prevalence for B. chilensis.

Under the proposed biometric sampling protocol, between 1 and 30 days before harvest, 100 random samples of fruit would have to be collected from each registered place of production. The samples would then have to washed, placed on a mesh sieve, sprinkled with liquid soap and water solution, washed with water at high pressure, and washed with water at lower pressure. Once this cleaning process is repeated twice, the contents of the sieves would have to be placed on a petri dish and examined for B. chilensis.

Proposed paragraph (b)(2) of § 319.56-76 would require registered places of production to remove plant litter and fallen debris from groves in accordance with the operational workplan. It would also prohibit fallen fruit from being included in field containers of fruit brought to the packinghouse to be packed for export. Plant litter, fallen debris, and fallen fruit are especially susceptible to quarantine pests.

Proposed paragraph (b)(3) of § 319.56-76 would require registered places of production to trap for Medfly in accordance with the operational workplan. The operational workplan would specify the types of traps and baits that must be used, the minimum number of traps per acre that must be deployed, the requisite distance between each trap, and the intervals at which the traps must be serviced. The NPPO would have to keep records regarding the placement and monitoring of all traps, as well as records of all pest detections in these traps, and provide the records to APHIS, as requested.

Proposed paragraph (b)(4) of § 319.56-76 would require registered places of production to carry out any additional grove sanitation and phytosanitary measures specified for the place of production by the operational workplan. Depending on the location, size, and plant pest history of the grove, these could include surveying protocols, safeguarding of trees, application of pesticides and fungicides, or other measures.

Proposed paragraph (b)(5) of § 319.56-76 would require the NPPO of Argentina to visit and inspect registered places of production regularly for signs of infestations and to allow APHIS to monitor these inspections. These inspections would have to start no more than 30 days before harvest and continue until the end of the export season.

Proposed paragraph (b)(6) of § 319.56-76 would provide that if APHIS or the NPPO of Argentina determines that a registered place of production has failed to follow the requirements of the regulations, the place of production would be excluded from the export program until APHIS and the NPPO of Argentina jointly agree that the place of production has taken appropriate remedial measures to address the plant pest risk.

Packinghouse Requirements

Proposed paragraph (c) of § 319.56-76 would set forth requirements for mitigation measures that would have to occur at registered packinghouses.

Proposed paragraph (c)(1) of § 319.56-76 would require that, while a registered packinghouse is in use for packing lemons for export to the continental United States, the packinghouses may only accept lemons that are from registered places of production and that have been produced in accordance with proposed § 319.56-76. Lemons from other places of production may be produced under conditions that are less stringent than those of this proposed rule, and may therefore be a pathway for the introduction of quarantine pests into the packinghouses.

Proposed paragraph (c)(2) of § 319.56-76 would require lemons to be packed within 24 hours of harvest in a registered pest-exclusionary packinghouse or stored in a degreening chamber in the registered pest-exclusionary packinghouse. The lemons would have to be packed for shipment to the continental United States in insect-proof cartons or containers, or covered with insect-proof mesh or plastic tarpaulin. These safeguards would have to remain intact until the lemons arrive in the United States, or the consignment would not be allowed to enter the United States. These requirements collectively would aid in preventing the lemons from becoming infested with plant pests during or subsequent to packing.

Proposed paragraph (c)(3) of § 319.56-76 would require the lemons to be washed, brushed, and surface disinfected for E. australis and Xcc in accordance with the operational workplan, treated with an APHIS-approved fungicide, and waxed. Section 301.75-7 requires citrus fruit from areas of the United States that are quarantined for Xcc to be treated at packinghouses for Xcc. Additionally, a December 2010 Federal Order for the interstate movement of citrus fruit from areas of the United States that are quarantined for E. australis requires the fruit to be washed, disinfected, treated, and waxed at packinghouses in order for a certificate to be issued authorizing the unrestricted interstate movement of the fruit within the United States.¹ Accordingly, this requirement would be generally consistent with current domestic requirements.

¹ To view the Federal Order, go to http://www.aphis.usda.gov/plant_health/plant_pest_info/citrus/downloads/sweet_orange/2010-62.pdf.

Proposed paragraph (c)(4) of § 319.56-76 would require the NPPO of Argentina or officials authorized by the NPPO of Argentina to visually inspect a biometric sample of each consignment for quarantine pests, wash the lemons in the sample, and inspect the filtrate for B. chilensis in accordance with the operational workplan. In addition to identifying lemons infested with B. chilensis, this method of visual inspection would be able to detect any signs or symptoms of Brevipalpus spp. mites on the lemons.

A portion of the fruit would then have to be cut open and inspected for evidence of quarantine pests. Cutting the fruit open would allow inspectors to determine whether the fruit is infested with Medflies or C. gnidiella or G. aurantianum larvae.

If a single C. gnidiella or G. aurantianum in any stage of development is found on the lemons, the entire consignment would be prohibited from export to the United States, and the registered place of production that produced the lemons would be suspended from the export program until APHIS and the NPPO of Argentina jointly agree that the place of production has taken appropriate remedial measures to address plant pest risk.

If a single B. chilensis or Brevipalpus spp. mite in any stage of development is found on the lemons, the entire consignment would be prohibited from export, and the registered place of production that produced the lemons may be suspended from the export program, pending an investigation.

If a single immature Medfly is found in or with the lemons, the lemons would have to be treated in accordance with 7 CFR part 305 and the operational workplan, and the registered place of production that produced the lemons in the consignment may be suspended from the export program, pending an investigation.

We would not require remedial measures to be taken if fruit is determined to be symptomatic for E. australis or Xcc because we have determined that fruit that is symptomatic for these pathogens and that has been subject to the treatment and processing protocol specified in proposed paragraph (c)(3) of § 319.56-76 is not a pathway for the spread of the pathogens. This is reflected in our conditions for the interstate movement of citrus fruit that is symptomatic for E. australis or Xcc.

Proposed paragraph (c)(5) of § 319.56-76 would provide that, if APHIS or the NPPO of Argentina determines that a registered packinghouse has failed to follow the requirements of the regulations, the packinghouse would be excluded from the export program until APHIS and the NPPO of Argentina jointly agree that the packinghouse has taken appropriate remedial measures to address the plant pest risk.

Port of Entry Requirements

Proposed paragraph (d) of § 319.56-76 would provide that consignments of lemons from Argentina will be inspected at the port of entry to the United States, and that, if any quarantine pests are discovered on the lemons during this inspection, the entire lot in which the quarantine pest was discovered would be subject to appropriate remedial measures to address this risk.

Miscellaneous Amendments to § 319.28

The regulations in § 319.28(a) prohibit the importation of citrus from Argentina, as well as from eastern and southeastern Asia, Japan, Brazil, Paraguay, and other designated areas. However, paragraphs (b) through (e) of § 319.28 set out various exceptions to this prohibition. To allow the importation of lemons from northwestern Argentina under § 319.56-76, we propose adding a new paragraph (e) to § 319.28 stating that the prohibition does not apply to lemons from northwest Argentina that meet the requirements of § 319.56-76. To accommodate the addition of the new paragraph (e) in § 319.28, we would redesignate current paragraphs (e) through (i) as (f) through (j), respectively.

Paragraph (a)(1) of § 319.28 provides that importation of fruits and peels of the genera and varieties listed in that paragraph is allowed from the Provinces ² of Catamarca, Jujuy, Salta, and Tucumán in Argentina because those Provinces are considered to be free of Xcc. However, we now consider Xcc to be present in those Provinces. Therefore, we would remove that statement.

² The paragraph currently refers to these administrative units as “States.” However, as noted within this document, administrative units within Argentina are Provinces, not States.

Finally, paragraph (a)(2) of § 319.28 currently prohibits the importation of lemons from Argentina, among other countries, to prevent the introduction of SOS within the United States. We would remove this prohibition.

Executive Order 12866 and Regulatory Flexibility Act

This proposed rule has been determined to be not significant for the purposes of Executive Order 12866 and, therefore, has not been reviewed by the Office of Management and Budget.

We have prepared an economic analysis for this rule. The economic analysis provides a cost-benefit analysis, as required by Executive Order 12866, and an initial regulatory flexibility analysis that examines the potential economic effects of this proposed rule on small entities, as required by the Regulatory Flexibility Act. The economic analysis is summarized below. Copies of the full analysis are available by contacting the person listed under FOR FURTHER INFORMATION CONTACT, in the reading room (see ADDRESSES above for more information), or on the Regulations.gov Web site (see ADDRESSES above for instructions for accessing Regulations.gov).

The analysis examines potential economic impacts on small domestic entities of allowing the importation of fresh lemons from northwest Argentina into the continental United States. A systems approach to pest risk mitigation would provide phytosanitary protection against pests of quarantine significance. Economic effects of the rule for both U.S. producers and consumers are not expected to be significant. While producers' welfare would be negatively affected, welfare gains for consumers would outweigh producer losses, resulting in a net benefit to the U.S. economy.

In the United States, commercial lemon production takes place in California and Arizona. For the 2013/14 season, lemon-bearing acres totaled 54,500 (California 46,000, Arizona 8,500). In the same season, the value of U.S. production of lemons was $647 million, 92 percent earned by California's growers and 8 percent by Arizona's growers. Over the five seasons, 2008/09 to 2012/13, U.S. fresh lemon production averaged about 497,350 metric tons (MT) per year. Over the same period, annual imports averaged about 45,751 MT and exports averaged about 95,574 MT. Because of the provisions of the rule, we expect that most lemons will be exported from April 1 to August 31, a period that coincides roughly with the months in which U.S. lemon exports are declining and imports are increasing.

Effects of the proposed rule are estimated using a partial equilibrium model of the U.S. lemon sector. Annual imports of fresh lemon from Argentina are expected to range between 15,000 and 20,000 MT, with volumes averaging 18,000 MT. Quantity, price, and welfare changes are estimated for these three import scenarios.

If the United States were to import 18,000 MT of fresh lemon from Argentina and there were no displacement of lemon imports from other countries, the price would decrease by an estimated 4 percent. Consumer welfare gains of about $25 million would outweigh producer welfare losses of about $22 million, resulting in a net welfare gain of about $3 million. The 15,000 MT and 20,000 MT scenarios show similar effects.

More reasonably, partial import displacement would occur, and price and welfare effects would be proportional to the net increase in U.S. lemon imports. If one-half of the quantity of fresh lemon imported from Argentina were to displace U.S. fresh lemon imports from elsewhere, then for the 18,000 MT scenario the price decline would be about 2 percent; consumer welfare gains and producer welfare losses would be about $12.2 million and $10.9 million, respectively, yielding a net welfare benefit of about $1.3 million.

The majority of businesses that may be affected by the proposed rule are small entities, including lemon producers, packers, wholesalers, and related establishments. APHIS welcomes public comment in order to better determine the extent to which U.S. small entities may be affected by this proposed rule.

Executive Order 12988

This proposed rule would allow lemons to be imported into the continental United States from northwest Argentina. If this proposed rule is adopted, State and local laws and regulations regarding lemons imported under this rule would be preempted while the fruit is in foreign commerce. Fresh lemons are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2014-0092. Please send a copy of your comments to: (1) Docket No. APHIS-2014-0092, Regulatory Analysis and Development, PPD, APHIS, Station 3A-03.8, 4700 River Road Unit 118, Riverdale, MD 20737-1238, and (2) Clearance Officer, OCIO, USDA, Room 404-W, 14th Street and Independence Avenue SW., Washington, DC 20250.

This proposed rule would allow the importation of lemons from northwest Argentina that have been produced in accordance with the requirements of a systems approach. This action would require information collection activities, such as an operational workplan, production site and packinghouse registration and recertification, pest-free determination, recordkeeping, monitoring of traps, NPPO inspection, identification, treatment records, and a phytosanitary certificate.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.07356 hours per response.

Respondents: Producers, importers of lemons, the NPPO of Argentina.

Estimated annual number of respondents: 76.

Estimated annual number of responses per respondent: 52.40.

Estimated annual number of responses: 3,983.

Estimated total annual burden on respondents: 293 hours. (Due to averaging, the total annual burden hours may not equal the product of the annual number of responses multiplied by the reporting burden per response.)

Copies of this information collection can be obtained from Ms. Kimberly Hardy, APHIS' Information Collection Coordinator, at (301) 851-2727.

E-Government Act Compliance

The Animal and Plant Health Inspection Service is committed to compliance with the EGovernment Act to promote the use of the Internet and other information technologies, to provide increased opportunities for citizen access to Government information and services, and for other purposes. For information pertinent to E-Government Act compliance related to this proposed rule, please contact Ms. Kimberly Hardy, APHIS' Information Collection Coordinator, at (301) 851-2727.

List of Subjects for 7 CFR Part 319

Coffee, Cotton, Fruits, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. Section 319.28 is amended as follows:

a. In paragraph (a)(1), by removing the words “(except for the States of Catamarca, Jujuy, Salta, and Tucumán, which are considered free of citrus canker)”.

b. In paragraph (a)(2), by removing the word “Argentina,”.

c. By redesignating paragraphs (e) through (i) as paragraphs (f) through (j), respectively, and adding a new paragraph (e).

The addition reads as follows:

§ 319.28 Notice of quarantine.

* * * * *

(e) The prohibition does not apply to lemons (Citrus limon (L.) Burm. f.) from northwest Argentina that meet the requirements of § 319.56-76.

* * * * *

5. Section 319.56-76 is added to read as follows:

§ 319.56-76 Lemons from northwest Argentina.

Fresh lemons (Citrus limon (L.) Burm. f.) may be imported into the continental United States from northwest Argentina (the Provinces of Catamarca, Jujuy, Salta, and Tucumán) only under the conditions described in this section. These conditions are designed to prevent the introduction of the following quarantine pests: Brevipalpus chilensis, the Chilean false red mite; B. californicus, the citrus flat mite, B. obovatus, the scarlet tea mite, and B. phoenicis, the false spider mite (referred to in this section as “Brevipalpus spp. mites”); Ceratitis capitata, the Mediterranean fruit fly; Cryptoblabes gnidiella, the honeydew moth; Elsinoë australis, the causal agent of sweet orange scab disease; Gymnandrosoma aurantianum (Lima), the citrus borer; and Xanthomonas citri subsp. citri (ex Hasse) Gabriel et al., the causal agent of citrus canker disease.

(a) General requirements—(1) Operational workplan. The national plant protection organization (NPPO) of Argentina must provide an operational workplan to APHIS that details the activities that the NPPO of Argentina and places of production and packinghouses registered with the NPPO of Argentina will, subject to APHIS' approval of the workplan, carry out to meet the requirements of this section. The operational workplan must include and describe the specific requirements as set forth in this section. APHIS will be directly involved with the NPPO of Argentina in monitoring and auditing implementation of the systems approach.

(2) Registered places of production. The fresh lemons considered for export to the continental United States must be grown by places of production that are registered with the NPPO of Argentina and that have been determined to be free from B. chilensis in accordance with this section.

(3) Registered packinghouses. The lemons must be packed for export to the continental United States in pest-exclusionary packinghouses that are registered with the NPPO of Argentina.

(4) Recordkeeping. The NPPO of Argentina must maintain all forms and documents pertaining to registered places of production and packinghouses for at least 1 year and, as requested, provide them to APHIS for review. Based on APHIS' review of records, APHIS may monitor places of production and packinghouses, as APHIS deems warranted.

(5) Commercial consignments. Lemons from Argentina can be imported to the continental United States in commercial consignments only. For purposes of this section, fruit in a commercial consignment must be practically free of leaves, twigs, and other plant parts, except for stems less than 1 inch long and attached to the fruit.

(6) Identification. The identity of the each lot of lemons from Argentina must be maintained throughout the export process, from the place of production to the arrival of the lemons at the port of entry into the continental United States. The means of identification that allows the lot to be traced back to its place of production must be authorized by the operational workplan.

(7) Harvesting restrictions or treatment for fruit flies. Lemons from Argentina must be harvested green and within the time period of April 1 and August 31. If they are harvested yellow or harvested outside of this time period, they must be treated for C. capitata in accordance with part 305 of this chapter and the operational workplan.

(8) Safeguarding. Lots of lemons destined for export to the continental United States must be safeguarded during movement from registered places of production to registered packinghouses as specified by the operational workplan.

(9) Phytosanitary certificate. Each consignment of lemons imported from Argentina into the continental United States must be accompanied by a phytosanitary certificate issued by the NPPO of Argentina with an additional declaration stating that the requirements of this section have been met and that the consignments have been inspected and found free of Brevipalpus spp. mites, B. chilensis, C. capitata, C. gnidiella, and G. aurantianum.

(b) Place of production requirements. (1) Prior to each harvest season, registered places of production of lemons destined for export to the continental United States must be determined by APHIS and the NPPO of Argentina to be free from B. chilensis based on biometric sampling conducted in accordance with the operational workplan. If a single live B. chilensis mite is discovered as a result of such sampling, the place of production will not be considered free from B. chilensis. Each place of production will have only one opportunity per harvest season to be considered free of B. chilensis, and certification of B. chilensis freedom will only last one harvest season.

(2) Places of production must remove plant litter and fallen debris from groves in accordance with the operational workplan. Fallen fruit may not be included in field containers of fruit brought to the packinghouse to be packed for export.

(3) Places of production must trap for C. capitata in accordance with the operational workplan. The NPPO must keep records regarding the placement and monitoring of all traps, as well as records of all pest detections in these traps, and provide the records to APHIS, as requested.

(4) Places of production must carry out any additional grove sanitation and phytosanitary measures specified for the place of production by the operational workplan.

(5) The NPPO of Argentina must visit and inspect registered places of production regularly throughout the exporting season for signs of infestations. These inspections must start no more than 30 days before harvest and continuing until the end of the export season. The NPPO of Argentina must allow APHIS to monitor these inspections. The NPPO of Argentina must also provide records of pest detections and pest detection practices to APHIS. Before any place of production may export lemons to the continental United States pursuant to this section, APHIS must review and approve of these practices.

(6) If APHIS or the NPPO of Argentina determines that a registered place of production has failed to follow the requirements in this paragraph (b), the place of production will be excluded from the export program until APHIS and the NPPO of Argentina jointly agree that the place of production has taken appropriate remedial measures to address the plant pest risk.

(c) Packinghouse requirements. (1) During the time registered packinghouses are in use for packing lemons for export to the continental United States, the packinghouses may only accept lemons that are from registered places of production and that have been produced in accordance with the requirements of this section.

(2) Lemons destined for export to the continental United States must be packed within 24 hours of harvest in a registered pest-exclusionary packinghouse or stored in a degreening chamber in the registered pest-exclusionary packinghouse. Lemons must be packed for shipment to the continental United States in insect-proof cartons or containers, or covered with insect-proof mesh or plastic tarpaulin. These safeguards must remain intact until the lemons arrive in the United States, or the consignment will not be allowed to enter the United States.

(3) Prior to packing, the lemons must be washed, brushed, and surface disinfected for E. australis and X. citri and in accordance with the operational workplan, treated with an APHIS-approved fungicide, and waxed.

(4) After treatment, the NPPO of Argentina or officials authorized by the NPPO of Argentina must visually inspect a biometric sample of each consignment for quarantine pests, wash the lemons in this sample, and inspect the filtrate for B. chilensis in accordance with the operational workplan. A portion of the lemons must then be cut open and inspected for evidence of quarantine pests.

(i) If a single C. gnidiella or G. aurantianum in any stage of development is found on the lemons, the entire consignment is prohibited from export to the United States, and the registered place of production that produced the lemons is suspended from the export program until APHIS and the NPPO of Argentina jointly agree that the place of production has taken appropriate remedial measures to address plant pest risk.

(ii) If a single B. chilensis or Brevipalpus spp. mite in any stage of development is found on the lemons, the entire consignment is prohibited from export, and the registered place of production that that produced the lemons may be suspended from the export program, pending an investigation.

(iii) If a single immature Medfly is found in or with the lemons, the lemons must be treated in accordance with part 305 of this chapter and the operational workplan. Additionally, the registered place of production that produced the lemons in the consignment may be suspended from the export program, pending an investigation.

(5) If APHIS or the NPPO of Argentina determines that a registered packinghouse has failed to follow the requirements in this paragraph (c), the packinghouse will be excluded from the export program until APHIS and the NPPO of Argentina jointly agree that the packinghouse has taken appropriate remedial measures to address the plant pest risk.

(d) Port of entry requirements. Consignments of lemons from Argentina will be inspected at the port of entry into the United States. If any quarantine pests are discovered on the lemons during inspection, the entire lot in which the quarantine pest was discovered will be subject to appropriate remedial measures to address this risk.

Done in Washington, DC, this 4th day of May 2016.
Michael L. Gregoire,
Acting Administrator, Animal and Plant Health Inspection Service.

[FR Doc. 2016-10957 Filed 5-9-16; 8:45 am]

BILLING CODE 3410-34-P